NATIONAL FOUNDATION ON THE ARTS AND THE HUMANITIES

Meetings of Humanities Panel

AGENCY: The National Endowment for the Humanities.

ACTION: Cancellation of panel meeting.

SUMMARY: The National Endowment for the Humanities published a document in the Federal Register of November 28, 2000, concerning a Humanities Panel meeting. The date of the meeting is December 15, 2000. This meeting has been cancelled.

FOR FURTHER INFORMATION CONTACT: Laura S. Nelson at (202) 606-8322.

Cancellation

In the Federal Register of November 28, 2000, on page 70951, in the second column, numbered paragraph 15, has been cancelled.

Dated: December 7, 2000.
Lauren Walsh,
Acting Advisory Committee Management Officer.

[FR Doc. 00-31646 Filed 12-11-00; 8:45 am]

BILLING CODE 7536-01-M